DEPARTMENT OF ENERGY

Federal Energy Regulatory Commission

Combined Notice of Filings #2

Take notice that the Commission received the following electric rate filings:

Docket Numbers: ER03-1182-000; ER10-3079-000.

Applicants: Tyr Energy, LLC.

Description: Supplement to Request for Category 1 Seller Determination, Tariff Amendment, and, in the Alternative, Request for Exemption.

Filed Date: 1/6/12.

Accession Number: 20120106-5105.

Comments Due: 5 p.m. ET 1/27/12.

Docket Numbers: ER12-819-000.

Applicants: ISO New England Inc.

Description: ISO New England Inc. submits tariff filing per 35.13(a)(2)(iii: Corrections to Conform Lang. in Section I.1.2 to be effective 1/31/2011.

Filed Date: 1/18/12.

Accession Number: 20120118-5028.

Comments Due: 5 p.m. ET 2/8/12.

Docket Numbers: ER12-820-000.

Applicants: PJM Interconnection, L.L.C.

Description: PJM Interconnection, L.L.C. submits tariff filing per 35.15: Notice of Cancellation of Original SA No. 2800 in Docket No. ER11-3203-000 to be effective 12/19/2011.

Filed Date: 1/18/12.

Accession Number: 20120118-5029.

Comments Due: 5 p.m. ET 2/8/12.

Docket Numbers: ER12-821-000.

Applicants: Southern California Edison Company.

Description: Southern California Edison Company submits tariff filing per 35.13(a)(2)(iii: True-Up to SGIA and Svc Agmt w/County Sanitation Districts of LA County to be effective 3/19/2012.

Filed Date: 1/18/12.

Accession Number: 20120118-5049.

Comments Due: 5 p.m. ET 2/8/12.

Docket Numbers: ER12-822-000.

Applicants: Public Service Company of New Hampshire.

Description: Public Service Company of New Hampshire submits tariff filing per 35.13(a)(2)(iii: PSNH and Former CVEC Interconnection Agreements to be effective 3/18/2012.

Filed Date: 1/18/12.

Accession Number: 20120118-5057.

Comments Due: 5 p.m. ET 2/8/12.

Docket Numbers: ER12-823-000.

Applicants: PJM Interconnection, L.L.C.

Description: PJM Interconnection, L.L.C. submits tariff filing per 35.13(a)(2)(iii: Original Service Agreement No. 3162; Queue No. X2-087 to be effective 12/20/2011.

Filed Date: 1/18/12.

Accession Number: 20120118-5058.

Comments Due: 5 p.m. ET 2/8/12.

Docket Numbers: ER12-824-000.

Applicants: PJM Interconnection, L.L.C.

Description: PJM Interconnection, L.L.C. submits tariff filing per 35.13(a)(2)(iii: Queue Position W2-050; Original Service Agreement No. 3175 to be effective 12/19/2011.

Filed Date: 1/18/12.

Accession Number: 20120118-5064.

Comments Due: 5 p.m. ET 2/8/12.

Docket Numbers: ER12-825-000.

Applicants: Midwest Independent Transmission System Operator, Inc.

Description: Midwest Independent Transmission System Operator, Inc. submits tariff filing per 35.13(a)(2)(iii: 01-18-12 Att L-Mod E_RAR filing to be effective 3/19/2012.

Filed Date: 1/18/12.

Accession Number: 20120118-5066.

Comments Due: 5 p.m. ET 2/8/12.

Docket Numbers: ER12-826-000.

Applicants: PJM Interconnection, L.L.C.

Description: PJM Interconnection, L.L.C. submits tariff filing per 35.13(a)(2)(iii: Original Service Agreement No. 3163; Queue No. X1-113 to be effective 12/20/2011.

Filed Date: 1/18/12.

Accession Number: 20120118-5094.

Comments Due: 5 p.m. ET 2/8/12.

Docket Numbers: ER12-827-000.

Applicants: Southwest Power Pool, Inc.

Description: Southwest Power Pool, Inc. submits tariff filing per 35.13(a)(2)(iii: 1883R1 Westar Energy, Inc. NITSA NOA to be effective 12/1/2011.

Filed Date: 1/18/12.

Accession Number: 20120118-5095.

Comments Due: 5 p.m. ET 2/8/12.

Docket Numbers: ER12-828-000.

Applicants: Southwest Power Pool, Inc.

Description: Southwest Power Pool, Inc. submits tariff filing per 35.13(a)(2)(iii: 1884R1 Westar Energy, Inc. NITSA NOA to be effective 12/1/2011.

Filed Date: 1/18/12.

Accession Number: 20120118-5096.

Comments Due: 5 p.m. ET 2/8/12.

Docket Numbers: ER12-829-000.

Applicants: Southwest Power Pool, Inc.

Description: Southwest Power Pool, Inc. submits tariff filing per 35.13(a)(2)(iii: 1887R1 Westar Energy, Inc. NITSA NOA to be effective 12/1/2011.

Filed Date: 1/18/12.

Accession Number: 20120118-5098.

Comments Due: 5 p.m. ET 2/8/12.

Docket Numbers: ER12-830-000.

Applicants: Southwest Power Pool, Inc.

Description: Southwest Power Pool, Inc. submits tariff filing per 35.13(a)(2)(iii: 1888R1 Westar Energy, Inc. NITSA NOA to be effective 12/1/2011.

Filed Date: 1/18/12.

Accession Number: 20120118-5101.

Comments Due: 5 p.m. ET 2/8/12.

Docket Numbers: ER12-831-000.

Applicants: Southwest Power Pool, Inc.

Description: Southwest Power Pool, Inc. submits tariff filing per 35.13(a)(2)(iii: 1889R1 Westar Energy, Inc. NITSA NOA to be effective 12/1/2011.

Filed Date: 1/18/12.

Accession Number: 20120118-5103.

Comments Due: 5 p.m. ET 2/8/12.

Docket Numbers: ER12-832-000.

Applicants: Southwest Power Pool, Inc.

Description: Southwest Power Pool, Inc. submits tariff filing per 35.13(a)(2)(iii: 1890R1 Westar Energy, Inc. NITSA NOA to be effective 12/1/2011.

Filed Date: 1/18/12.

Accession Number: 20120118-5104.

Comments Due: 5 p.m. ET 2/8/12.

Docket Numbers: ER12-833-000.

Applicants: Southwest Power Pool, Inc.

Description: Southwest Power Pool, Inc. submits tariff filing per 35.13(a)(2)(iii: 1897R1 Westar Energy, Inc. NITSA NOA to be effective 12/1/2011.

Filed Date: 1/18/12.

Accession Number: 20120118-5105.

Comments Due: 5 p.m. ET 2/8/12.

Docket Numbers: ER12-834-000.

Applicants: Entergy Arkansas, Inc.

Description: Entergy Arkansas, Inc. submits tariff filing per 35: ETI/College Station IA Compliance Filing to be effective 12/19/2011.

Filed Date: 1/18/12.

Accession Number: 20120118-5120.

Comments Due: 5 p.m. ET 2/8/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2012.
Nathaniel J. Davis, Sr.,
Deputy Secretary.

[FR Doc. 2012-1614 Filed 1-25-12; 8:45 am]

BILLING CODE 6717-01-P